DEPARTMENT OF ENERGY

Federal Energy Regulatory Commission

Combined Notice of Filings #2

Take notice that the Commission received the following electric rate filings:

Docket Numbers: ER10-2179-032.

Applicants: Calvert Cliffs Nuclear Power Plant, LLC.

Description: Notice of Non-Material Change in Status of Calvert Cliffs Nuclear Power Plant, LLC.

Filed Date: 10/17/16.

Accession Number: 20161017-5082.

Comments Due: 5 p.m. ET 11/7/16.

Docket Numbers: ER10-2756-006; ER10-2757-006.

Applicants: Arlington Valley, LLC, Griffith Energy LLC.

Description: Supplement to June 30, 2016 Triennial Market Power Update for the Southwest Region of Arlington Valley, LLC, et al.

Filed Date: 10/17/16.

Accession Number: 20161017-5109.

Comments Due: 5 p.m. ET 11/7/16.

Docket Numbers: ER13-1641-003; ER15-1045-003.

Applicants: Chestnut Flats Lessee, LLC, Pilot Hill Wind, LLC.

Description: Notice of Non-Material Change in Status of Chestnut Flats Lessee, LLC, et al.

Filed Date: 10/17/16.

Accession Number: 20161017-5105.

Comments Due: 5 p.m. ET 11/7/16.

Docket Numbers: ER15-2589-000.

Applicants: CPV Shore, LLC.

Description: Report Filing: Refund Report to be effective N/A.

Filed Date: 10/17/16.

Accession Number: 20161017-5113.

Comments Due: 5 p.m. ET 11/7/16.

Docket Numbers: ER16-896-001; ER16-899-001.

Applicants: Orange and Rockland Utilities, Inc.

Description: Notification of Completion of Transaction and Effective Date of Cancellation of Orange and Rockland Utilities, Inc., et al.

Filed Date: 9/29/16.

Accession Number: 20160929-5203.

Comments Due: 5 p.m. ET 11/7/16.

Docket Numbers: ER16-1483-004.

Applicants: California Independent System Operator Corporation.

Description: Compliance filing: 2016-10-17 Compliance Filing with Sept. 16 Order Frequency Response to be effective 8/15/2016.

Filed Date: 10/17/16.

Accession Number: 20161017-5138.

Comments Due: 5 p.m. ET 11/7/16.

Docket Numbers: ER16-2643-001.

Applicants: Panda Stonewall LLC.

Description: Tariff Amendment: Supplement to Market-Based Rate Application to be effective 11/21/2016.

Filed Date: 10/17/16.

Accession Number: 20161017-5084.

Comments Due: 5 p.m. ET 11/7/16.

Docket Numbers: ER17-116-000.

Applicants: ISO New England Inc.

Description: § 205(d) Rate Filing: 2017 Capital Budget and Revised Tariff Sheets for Recovery of 2017 Admin. Costs to be effective 1/1/2017.

Filed Date: 10/17/16.

Accession Number: 20161017-5052.

Comments Due: 5 p.m. ET 11/7/16.

Docket Numbers: ER17-117-000.

Applicants: Wisconsin Electric Power Company.

Description: § 205(d) Rate Filing: Wisconsin Electric—UMERC Formula Rate Service Agreement No 3 to be effective 1/1/2017.

Filed Date: 10/17/16.

Accession Number: 20161017-5070.

Comments Due: 5 p.m. ET 11/7/16.

Docket Numbers: ER17-118-000.

Applicants: Wisconsin Public Service Corporation.

Description: § 205(d) Rate Filing: WPS Corp Filing of Rate Schedule No. 94 for Wholesale Distribution Service to be effective 1/1/2017.

Filed Date: 10/17/16.

Accession Number: 20161017-5071.

Comments Due: 5 p.m. ET 11/7/16.

Docket Numbers: ER17-119-000.

Applicants: Wisconsin Public Service Corporation.

Description: § 205(d) Rate Filing: WPS Corp Filing of Service Agreement No. 12 under its Rate Schedule W-1A to be effective 1/1/2017.

Filed Date: 10/17/16.

Accession Number: 20161017-5072.

Comments Due: 5 p.m. ET 11/7/16.

Docket Numbers: ER17-120-000.

Applicants: Upper Michigan Energy Resources Corporation.

Description: Baseline eTariff Filing: UMERC to Wisconsin Electric Rate Schedule No. 1 to be effective 1/1/2017.

Filed Date: 10/17/16.

Accession Number: 20161017-5080.

Comments Due: 5 p.m. ET 11/7/16.

Docket Numbers: ER17-121-000.

Applicants: Upper Michigan Energy Resources Corporation.

Description: § 205(d) Rate Filing: UMERC to Wisconsin Public Service Rate Schedule No. 2 to be effective 1/1/2017.

Filed Date: 10/17/16.

Accession Number: 20161017-5081.

Comments Due: 5 p.m. ET 11/7/16.

Docket Numbers: ER17-122-000.

Applicants: ISO New England Inc.

Description: ISO New England Inc. submits Third Quarter 2016 Capital Budget Report.

Filed Date: 10/17/16.

Accession Number: 20161017-5083.

Comments Due: 5 p.m. ET 11/7/16.

Docket Numbers: ER17-123-000.

Applicants: PJM Interconnection, L.L.C.

Description: § 205(d) Rate Filing: Queue Position AA1-121, Original Service Agreement No. 4565 to be effective 9/15/2016.

Filed Date: 10/17/16.

Accession Number: 20161017-5086.

Comments Due: 5 p.m. ET 11/7/16.

Docket Numbers: ER17-124-000.

Applicants: Tucson Electric Power Company.

Description: Compliance filing: Order 819 Compliance Filing to be effective 2/25/2016.

Filed Date: 10/17/16.

Accession Number: 20161017-5107.

Comments Due: 5 p.m. ET 11/7/16.

Docket Numbers: ER17-125-000.

Applicants: UniSource Energy Development Company.

Description: Compliance filing: Order No. 819 Compliance Filing to be effective 2/25/2016.

Filed Date: 10/17/16.

Accession Number: 20161017-5108.

Comments Due: 5 p.m. ET 11/7/16.

Docket Numbers: ER17-126-000.

Applicants: UNS Electric, Inc.

Description: Compliance filing: Order No. 819 Compliance Filing to be effective 2/25/2016.

Filed Date: 10/17/16.

Accession Number: 20161017-5110.

Comments Due: 5 p.m. ET 11/7/16.

Docket Numbers: ER17-127-000.

Applicants: Portal Ridge Solar B, LLC.

Description: § 205(d) Rate Filing: SFA and CTA Agreement to be effective 11/4/2016.

Filed Date: 10/17/16.

Accession Number: 20161017-5121.

Comments Due: 5 p.m. ET 11/7/16.

Docket Numbers: ER17-128-000.

Applicants: Portal Ridge Solar C, LLC.

Description: § 205(d) Rate Filing: SFA Concurrence filing to be effective 11/4/2016.

Filed Date: 10/17/16.

Accession Number: 20161017-5127.

Comments Due: 5 p.m. ET 11/7/16.

Docket Numbers: ER17-129-000.

Applicants: Portal Ridge Solar C, LLC.

Description: § 205(d) Rate Filing: CTA Concurrence filing to be effective 11/4/2016.

Filed Date: 10/17/16.

Accession Number: 20161017-5130.

Comments Due: 5 p.m. ET 11/7/16.

Docket Numbers: ER17-130-000.

Applicants: Northampton Generating Company, L.P.

Description: § 205(d) Rate Filing: Northampton Generating Co. Change in Status supplemental filing—Clone to be effective 9/16/2016.

Filed Date: 10/17/16.

Accession Number: 20161017-5140.

Comments Due: 5 p.m. ET 11/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2016.
Nathaniel J. Davis, Sr.,
Deputy Secretary.

[FR Doc. 2016-25515 Filed 10-20-16; 8:45 am]

BILLING CODE 6717-01-P